DEPARTMENT OF JUSTICE

Bureau of Alcohol, Tobacco, Firearms and Explosives

[OMB 1140-0009]

Agency Information Collection Activities; Proposed eCollection of eComments Requested; Revision of a Currently Approved Collection; Application To Register as an Importer of U.S. Munitions Import List (USMIL) Articles—ATF Form 4587(5330.4)

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995. The proposed information collection (IC) OMB 1140-0009 (Application to Register as an Importer of U.S. Munitions Import List (USMIL) Articles)—ATF Form 4587(5330.4)) is being revised due to an increase in the total annual responses, respondents and burden hours. The pay.gov feature is also being implemented to facilitate form completion and processing of registration fees. The proposed IC is also being published to obtain comments from the public and affected agencies.

DATES: Comments are encouraged and will be accepted for 60 days until January 10, 2022.

FOR FURTHER INFORMATION CONTACT: If you have additional comments regarding the estimated public burden or associated response time, suggestions, or need a copy of the proposed information collection instrument with instructions, or additional information, please contact: Corey Bodencak, Office 1350/Imports Branch/FESD either by mail at 244 Needy Rd., Martinsburg, WV 25405, by email at Corey.Bodencak@atf.gov, or by telephone at (304) 616-4558.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and, if so, how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Revision of a Currently Approved Collection.

2. The Title of the Form/Collection: Application to Register as an Importer of U.S. Munitions Import List (USMIL) Articles.

3. The agency form number, if any, and the applicable component of the Department sponsoring the collection:

Form number (if applicable): ATF Form 4587(5330.4).

Component: Bureau of Alcohol, Tobacco, Firearms and Explosives, U.S. Department of Justice.

4. Affected public who will be asked or required to respond, as well as a brief abstract:

Primary: Business or other for-profit.

Other (if applicable): Individuals or households.

Abstract: The Application to Register as an Importer of U.S. Munitions Import List (USMIL) Articles—ATF Form 4587(5330.4) is used to register an individual or company as an importer of USMIL articles and facilitate the collection of registration fees.

5. An estimate of the total number of respondents and the amount of time estimated for an average respondent to respond: An estimated 400 respondents will prepare explosives transaction records for this collection once annually, and it will take each respondent approximately 30 minutes to complete their responses.

6. An estimate of the total public burden (in hours) associated with the collection: The estimated annual public burden associated with this collection is 200 hours, which is equal to 400 (total respondents) * 1 (# of response per respondent) * .5 (30 minutes or the time taken to prepare each response).

7. An Explanation of the change in estimates: Due to more individuals registering to import defense articles and services, the total respondents, responses, and burden hours to this collection have increased from 300, 300, and 150 hours respectively in 2018, to 400, 400, and 200 hours currently.

If additional information is required contact: Melody Braswell, Department Clearance Officer, United States Department of Justice, Justice Management Division, Policy and Planning Staff, Two Constitution Square, 145 N Street NE, Mail Stop 3E.405A, Washington, DC 20530.

Dated: November 4, 2021.
Melody Braswell,
Department Clearance Officer for PRA, U.S. Department of Justice.

[FR Doc. 2021-24469 Filed 11-8-21; 8:45 am]

BILLING CODE 4410-FY-P